POSTAL SERVICE

39 CFR Part 254

USPS Standards for Facility Accessibility

AGENCY: Postal Service

ACTION: Final rule.

SUMMARY: Pursuant to the Architectural Barriers Act of 1968, 42 U.S.C. 4151 et. seq. (2000), the United States Postal Service is revising its standards for facility accessibility and adding them to the CFR. These revisions are made in response to the Americans with Disabilities Act/Architectural Barriers Act Guidelines (ADAAG/ABAAG) recently published by the U.S. Architectural and Transportation Barriers Compliance Board (US Access Board).

DATES: Effective: October 1, 2005, with applicability dates as follows:

• For owned facilities, these standards are applicable effective on October 1, 2005 for all Postal Service facility designs that have not reached 30% design completion by October 1, 2005 and for all design/build contracts for which the solicitation is issued after October 1, 2005.

• For leased facilities, these standards are applicable effective on October 1, 2005 for new construction, additions, and alterations and alternate quarters with designs that have not reached 30% completion by October 1, 2005.

• For all existing leased facilities, these standards are applicable effective on October 1, 2005 for all new leases signed on or after October 1, 2005. The unilateral exercise of a previously negotiated lease option is not considered a new lease for purposes of these standards.

FOR FURTHER INFORMATION CONTACT: Susan Koetting, Attorney, U.S. Postal Service, (202) 268-4818.

SUPPLEMENTARY INFORMATION: The US Access Board recently adopted Guidelines to implement the Americans with Disabilities Act and the Architectural Barriers Act at 69 FR 44084, July 23, 2004, codified at 36 CFR part 1191. It is the Postal Service's intent to adopt the Guidelines pertaining to the Architectural Barriers Act of 1968 (42 U.S.C. 4151 et seq.), which are found in 36 CFR Part 1191, with the exception of the Advisory Notes. As a matter of policy, the Advisory Notes will be included in the Postal Service's revised Handbook RE-4, “Standards for Facility Accessibility,” which is an internal guidance document published for the benefit of Postal Service employees.

List of Subjects in 39 CFR Part 254

Buildings and Facilities, Individuals with Disabilities, Postal Service

For the reasons set forth in the preamble, the Postal Service amends 39 CFR chapter 1 by adding a new part 254 to read as follows:

PART 254—POSTAL SERVICE STANDARDS FOR FACILITY ACCESSIBILITY PURSUANT TO THE ARCHITECTURAL BARRIERS ACT

Sec.
254.1 Adoption of U.S. Access Board Standards as Postal Service Standards of Facility Accessibility
254.2 Definition of primary function area and criteria used to determine whether an alteration has an effect on an area containing a primary function that is disproportionate to the overall alterations.

Authority: 39 U.S.C 101, 401, 403; 29 U.S.C. 792(b)(3) and 42 U.S.C. 12204.

§ 254.1 Adoption of U.S. Access Board Standards as Postal Service Standards of Facility Accessibility.

(a) The United States Postal Service adopts as its Architectural Barriers Act (ABA) “Standards for Facility Accessibility,” the following sections of 36 CFR part 1191:

Appendix A to Part 1191, Table of Contents for apps. C, D, and E.

Appendix C to Part 1191, Architectural Barriers Act, Scoping (which contains ABA Chapter 1, Application and Administration, and ABA Chapter 2, Scoping requirements); pertinent parts of Appendix D to Part 1191, Technical (which includes Chapters 3 through 10).

Appendix E to Part 1191, List of Figures and Index.

(b) These sections listed in paragraph (a) of this section are adopted verbatim, with the exception of the Advisory Notes, which are expressly excluded.

§ 254.2 Definition of primary function area and criteria used to determine whether an alteration has an effect on an area containing a primary function that is disproportionate to the overall alterations.

(a) Terminology. The new accessibility guidelines require that certain terms be defined by the participating federal agencies. In the U.S. Access Board's 36 CFR part 1191, Appendix C, ABA chapter 2, section F202.6.2 requires that “primary function areas” be defined and Section F202.4 contains requirements for alterations affecting “primary function areas” stating, “* * *an alteration that affects or could affect the usability of or access to an area containing a primary function shall be made so as to ensure that, to the maximum extent feasible, the path of travel to the altered area, including the rest rooms, telephones, and drinking fountains serving the altered area, are readily accessible to and usable by individuals with disabilities, unless such alterations are disproportionate to the overall alterations in terms of cost and scope as determined under criteria established by the Administrator of * * * the United States Postal Service.”

(b) Primary function areas. For purposes of this part, the primary function of the Postal Service is to provide mail service for its customers, that is to accept, distribute, transport and deliver the mail. Two essential facilities for fulfilling these functions are customer lobby areas where customers conduct their retail transactions, access mail depositories and post office boxes and work room areas where postal employees distribute the mail and perform other core postal operations. Therefore, for purposes of the accessibility guidelines applicable to the Postal Service under the Architectural Barriers Act, two primary function areas are identified: Customer Lobbies and Workroom Areas.

(c) Disproportionality. (1) According to Section F202.6.2, “alteration” of elements in a primary function area can trigger a requirement to make accessibility improvements along the path of travel to the area and improvements to rest rooms, telephones, and drinking fountains that serve the altered area if the alteration “affects or could affect the usability of or access to an area containing a primary function.” It is conceivable that almost any repair or alteration project in a “primary function area” could affect the usability of the area. Therefore a literal interpretation of this provision could require an expansion of the scope of virtually any alteration in a primary function area, regardless of the size and scope of the original project. According to Section F202.6.2, accessibility improvements must be made to the path of travel to the altered area and to rest rooms, telephones, and drinking fountains that serve the altered area “unless such alterations are disproportionate to the overall alterations in terms of cost and scope”. (2) For purposes of the accessibility guidelines applicable to the Postal Service under the Architectural Barriers Act, two criteria must be considered in making a determination whether accessibility improvements are disproportionate to the cost and scope of the original alteration: a magnitude threshold for the original alteration and a maximum “percentage threshold” for the accessibility alteration.

(d) Magnitude threshold. It is anticipated that, in most cases, a significant additional effort would be required to assess physical conditions along the path of travel and for rest rooms, telephones, and drinking fountains that serve the altered area, and to determine the scope, budget and appropriate design requirements for any corrective alterations. Unless the original alteration is of substantial magnitude, a disproportionate effort would be devoted to such investigation, design, and administration leaving few, if any funds to accomplish corrective work. Accordingly, a “magnitude threshold” is established such that no accessibility improvements to the path of travel, nor to any associated facilities, shall be required under F202.6.2 for alterations that have an estimated total cost less than 20 percent of the fair market value of the facility.

(e) Percentage threshold. For alterations subject to F202.6.2 that meet or exceed the “magnitude threshold,” the maximum cost for accessibility improvements to the path of travel, including all costs for accessibility improvements to rest rooms, telephones, and drinking fountains that serve the altered area, shall not exceed 20 percent of the total cost of the original alteration. Costs for accessibility improvements in excess of the 20 percent threshold shall be deemed “disproportionate.”

Neva Watson,
Attorney, Legislative.

[FR Doc. 05-9745 Filed 5-16-05; 8:45 am]

BILLING CODE 7710-12-P